DEPARTMENT OF ENERGY

Federal Energy Regulatory Commission

[Docket No. IC09-546-000]

Commission Information Collection Activities (FERC-546); Comment Request; Extension

February 2, 2009.

AGENCY: Federal Energy Regulatory Commission.

ACTION: Notice of proposed information collection and request for comments.

SUMMARY: In compliance with the requirements of section 3506(c)(2)(a) of the Paperwork Reduction Act of 1995 (Pub. L. No. 104-13), the Federal Energy Regulatory Commission (Commission) is soliciting public comment on the specific aspects of the information collection described below.

DATES: Comments in consideration of the collection of information are due April 13, 2009.

ADDRESSES: Comments may be filed either electronically or in paper format, and should refer to Docket No. IC09-546-000. Documents must be prepared in an acceptable filing format and in compliance with Commission submission guidelines at http://www.ferc.gov/help/submission-guide.asp.

Comments may be eFiled. The eFiling option under the Documents & Filings tab on the Commission's home Web page: http://www.ferc.gov directs users to the eFiling Web site. First-time users follow the eRegister instructions on the eFiling Web page to establish a user name and password before eFiling. Filers will receive an emailed confirmation of their eFiled comments. Commenters filing electronically should not make a paper filing. If you are unable to make a filing electronically, submit an original and 14 paper copies of the filing to: Federal Energy Regulatory Commission, Secretary of the Commission, 888 First Street, NE., Washington, DC 20426.

Parties interested in receiving automatic notification of activity in this docket may do so through eSubscription. The eSubscription option under the Documents & Filings tab on the Commission's home Web page directs users to the eSubscription Web page. Users submit the docket numbers of the filings they wish to track and will subsequently receive an e-mail notification each time a filing is made under the submitted docket numbers. First-time users will need to establish a user name and password before eSubscribing.

Filed comments and FERC issuances may be viewed, printed and downloaded remotely from the Commission's Web site. The red eLibrary link found at the top of most of the Commission's Web pages directs users to the eLibrary. From the eLibrary Web page, choose General Search, and in the Docket Number space provided, enter IC09-546; then click the Submit button at the bottom of the page.

For help with any of the Commission's electronic submission or retrieval systems, e-mail FERC Online Support: ferconlinesupport@ferc.gov, or telephone toll-free: (866) 208-3676 (TTY (202) 502-8659).

FOR FURTHER INFORMATION: Michael Miller may be reached by telephone at (202) 502-8415, by fax at (202) 273-0873, and by e-mail at michael.miller@ferc.gov.

SUPPLEMENTARY INFORMATION: FERC-546 (Certificated Rate Filings: Gas Pipeline Rates; OMB Control Number 1902-0155) is required to implement Sections 4, 5, 16 and 7(e) of the Natural Gas Act (NGA) (15 U.S.C. 717-717w). NGA Sections 4, 5 and 16 authorize the Commission to inquire into rate structures and methodologies and to set rates at a just and reasonable level. Section 7(e) authorizes the Commission to set initial rates that are in keeping with the public convenience and necessity.

The Commission uses the FERC-546 information to examine service and tariff provisions for the transportation and storage, and/or sale of natural gas in interstate commerce filed with the Commission.

When a pipeline decides to construct and operate a jurisdictional pipeline, it files an application with the Commission and receives a Certificate of Public Convenience and Necessity. As part of its review, the Commission considers and authorizes “initial rates” for transportation and/or storage service for the pipeline. Initial rates are established for new services authorized in certificate proceedings and must meet a public convenience and necessity standard. Initial rates established in the certificate proceeding remain in effect until such rates are reviewed by the Commission in a rate proceeding. The information submitted by the pipeline company to the Commission in these applications for initial rates is the subject of FERC-546.¹

¹ The Commission collects information necessary to examine and approve any change in rates separately under FERC-542 and FERC-545. The FERC-542 is for tracking filings, and FERC-545 is for general rate change filings, including NGA Section 4 major rate cases.

The Commission's reporting requirements for this information collection are provided in 18 CFR 154.4, 154.7, 154.202, 154.204-.209, and 154.602-.603. Failure to collect this information would prevent the Commission from monitoring and properly evaluating pipeline proposals to add or modify services.

Action: The Commission is requesting a three-year extension of the current reporting requirements.

Burden Statement: Public reporting burden for this collection is estimated at:

FERC Data Collection—FERC-546 | Number of respondents annually | Number of responses per respondent | Average burden hours per response | Total annual burden hours
| (1) | (2) | (3) | (1) × (2) × (3)
Natural Gas Companies | 77 | 4 | 40 | 12,320
Storage Operators | 3 | 1 | 350 | 1,050
Total |  |  |  | 13,370

The estimated cost burden to respondents is $812,381.76 (13,370 hours divided by 2,080 hours ² per year times $126,384 ³ equals $812,381.77). The cost per respondent is $10,154.77.

² Number of hours an employee works each year.

³ Average annual salary per employee.

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to the collection of information; (5) searching data sources; (6) completing and reviewing the collection of information; and (7) transmitting, or otherwise disclosing the information.

The respondent's cost estimate is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collection of information is necessary for the proper performance of the functions of the Commission, including whether the information will have practical utility; (2) the accuracy of the agency's estimate of the burden of the proposed collection of information, including the validity of the methodology and assumptions used; (3) ways to enhance the quality, utility and clarity of the information to be collected; and (4) ways to minimize the respondent information collection burden, including the use of appropriate automated, electronic, mechanical, or other technological collection techniques or other forms of information technology, e.g. permitting electronic submission of responses.

Kimberly D. Bose,
Secretary.

[FR Doc. E9-2603 Filed 2-6-09; 8:45 am]

BILLING CODE 6717-01-P